ENVIRONMENTAL PROTECTION AGENCY

[ER-FRL-6615-5]

Environmental Impact Statements; Notice of Availability

Responsible Agency

Office of Federal Activities, General Information (202) 564-7167 or www.epa.gov/oeca/ofa

Weekly receipt of Environmental Impact Statements Filed February 05, 2001 Through February 09, 2001 Pursuant to 40 CFR 1506.9.

EIS No. 010039, Draft EIS, FAA, FL, Fort Lauderdale—Hollywood International Airport, Proposed Expansion of Runway 9R-2FL and other Associated Improvements, Funding, Broward County, FL, Comment Period Ends: April 20, 2001, Contact: Bart Vernace (407) 812-6331.

EIS No. 010040, Final EIS, BOP, ID, Terre Haute United States Penitentiary (USP), Proposal to Construct and Operate 960 Beds Facilities along with a Special Confinement Unit of 100-120 Beds to Alleviating Overcrowding, Vigo County, Terra Haute, ID, Wait Period Ends: March 19, 2001, Contact: David J. Dorworth (202) 514-6470.

EIS No. 010041, Draft EIS, FHW, MI, I-94/Rehabilitation Project, Transportation Improvements to a 6.7 miles portion of I-94 from east I-96 west end to Conner Avenue on the east end, Funding and NPDES Permit, City of Detroit, Wayne County, MI, Comment Period Ends: April 02, 2001, Contact: James Kirschensteiner (517) 377-1880.

EIS No. 010042, Final EIS, FHW, MI, Boardman River Crossing Mobility Study, Improve the East-West Mobility across the Boardman River, COE Permit, Traverse City and Grand Traverse County, MI , Wait Period Ends: March 19, 2001, Contact: James A. Kirschensteiner (517) 377-1880.

EIS No. 010043, Final EIS, TVA, Adoption—Disposition of Surplus Highly Enriched Uranium, TVA proposes to obtain 33 Metric Tons of Highly Enriched Uranium (HEU) to blend down to Low Enriched Uranium (LEU) and Fabricated to Fuel for use in Nuclear Reactors at Browns Ferry Nuclear Plant, Wait Period Ends: March 19, 2001, Contact: Bruce L. Yeager (423) 632-8051. Tennessee Valley Authority (TVA) has adopted a portion of the Department of Energy's FEIS #960298 filed 06-21-96. TVA was not a Cooperating Agency for the above final EIS. Recirculation of the document is necessary under § 1506.3(b) of the Council on Environmental Quality Regulations.

EIS No. 010044, Final Supplement, NPS, MS, Natchez Trace Parkway, Update Information on the Construction of Section 3P13 (Old Agency Road), City of Ridgeland, Madison County, MS, Wait Period Ends: March 19, 2001, Contact: Wendell A. Simpson (662) 680-4004.

EIS No. 010045, Draft EIS, EPA, Proposed Rule on Environmental Impact Assessment of Nongovernmental Activities in Antarctica, To implement the Protocol on Environmental Protection to the Antarctic Treaty of 1959, Comment Period Ends: April 02, 2001, Contact: B. Katherine Biggs (202) 564-7144.

Dated: February 13, 2001.
Joseph C. Montgomery,
Director, NEPA Compliance Division, Office of Federal Activities.

[FR Doc. 01-3999 Filed 2-15-01; 8:45 am]

BILLING CODE 6560-50-U